DEPARTMENT OF HEALTH AND HUMAN SERVICES

Centers for Disease Control and Prevention

[30Day-15-2015; Docket No. CDC-2015-0023]

Agency Forms Undergoing Paperwork Reduction Act Review

The Centers for Disease Control and Prevention (CDC) has submitted the following information collection request to the Office of Management and Budget (OMB) for review and approval in accordance with the Paper Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agency's estimate of the burden of the proposed collection of information, including the validity of the methodology and information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404)639-7570 or send an email to omb@cdc.gov. Direct written comments and/or suggestions regarding the items contained in this notice to the Attention: CDC Desk Officer, Office of Management and Budget, Washington, DC 20503 or by fax to (202)395-5806. Written comments should be received within 30 days of this notice.

Proposed Project

Performance Measurement and Program Evaluation

(Autism and Developmental Disabilities Monitoring (ADDM) Network)—New—National Center for Birth Defects and Developmental Disabilities (NCBDDD), Centers for Disease Control and Prevention (CDC).

Background and Brief Description

In January 2015, CDC launched a new phase of funding for its autism spectrum disorder (ASD) surveillance program through a new cooperative agreement: “Enhancing Public Health Surveillance of Autism Spectrum Disorder and Other Developmental Disabilities through the Autism and Developmental Disabilities Monitoring (ADDM) Network” under the Funding Opportunity Announcement (FOA) DD15-1501. Through this cooperative agreement, funding is provided to enhance tracking at eight existing sites and to launch two new sites. Awards were made to state/local health departments and/or their designated representatives, including Colorado Department of Public Health and Environment, Johns Hopkins University, Rutgers University, University of Arizona, University of Arkansas for Medical Sciences, University of North Carolina at Chapel Hill, University of Minnesota, University of Wisconsin-Madison, Vanderbilt University, and Washington University in St. Louis. Four sites received funding to carry out Component A, which focuses on surveillance of ASD and either cerebral palsy or intellectual disability among 8-year-olds. Six sites received funding to carry out both Component A as well as Component B, which focuses on surveillance of ASD among 4-year-olds. In addition to the sites funded under the cooperative agreement, CDC also administers a site in Atlanta, Georgia, commonly known as the Metropolitan Atlanta Developmental Disabilities Surveillance Program (MADDSP).

CDC seeks to request OMB approval to collect performance monitoring and program evaluation information from all sites participating in the Autism and Developmental Disabilities Monitoring Network (including the site administered by CDC). Over the course of the four-year funding cycle, each site will provide feedback via site-specific interviews, a Checklist, Worksheets, and Performance Measures at six month and two-year intervals. The interviews will occur on pre-established individual site calls that CDC conducts monthly with each grantee. The Worksheets and Performance Measures will be submitted to CDC by completing a Microsoft Excel-based data collection tool and emailing the information to a designated CDC contact. By conducting brief telephone interviews and developing a user-friendly data collection tool in Microsoft Excel, CDC anticipates that the reporting and tracking burden for awardees will be reduced due to: (1) Use of pre-established meeting time to conduct interviews, (2) awardees' familiarity with the software, which reduces training burden; and (3) the compatibility of the templates with other record keeping processes that are already in place for many awardees. CDC staff and contractors will be responsible for converting each awardee's submissions into a secure Microsoft Excel spreadsheet for reporting and analysis. CDC anticipates that respondent burden will be slightly higher at the initial six-month submission and will also be slightly higher for sites completing Component A&B compared to just Component A.

The information to be collected will help CDC and awardees assure compliance with cooperative agreement requirements, support program evaluation efforts, and obtain information needed to respond to inquiries about program activities and program impact from Congress and other stakeholders.

OMB approval is requested for three years. Participation is required as a condition of cooperative agreement funding. There are no costs to respondents other than their time. The total estimated burden hours are 122.

Estimated Annualized Burden Hours
Type of respondents | Form name | Number of respondents | Number of responses per respondent | Average burden per response (in hours)
Component A only (initial six-month submission) | Interview Worksheets Performance Measure | 5 5 5 | 1 1 1 | 3/60 90/60 30/60
Component A&B (initial six-month submission) | Interview Worksheets Performance Measures | 6 6 6 | 1 1 1 | 3/60 120/60 42/60
Component A only (subsequent six-month and two-year submissions) | Interview Worksheets Performance Measures | 5 5 5 | 5 5 5 | 3/60 60/60 18/60
Component A&B (subsequent six-month and two-year submissions) | Interview Worksheets Performance Measures | 6 6 6 | 5 5 5 | 3/60 90/60 30/60

Leroy A. Richardson,
Chief, Information Collection Review Office, Office of Scientific Integrity, Office of the Associate Director for Science, Office of the Director, Centers for Disease Control and Prevention.

[FR Doc. 2015-33092 Filed 12-31-15; 8:45 am]

BILLING CODE 4163-18-P